DEPARTMENT OF HEALTH AND HUMAN SERVICES

Administration for Community Living

[OMB No. 0985-0039]

Agency Information Collection Activities; Submission for OMB Review; Public Comment Request; Prevention and Public Health Fund Evidence-Based Falls Prevention Program, Information Collection

AGENCY: Administration for Community Living, HHS.

ACTION: Notice

SUMMARY: The Administration for Community Living is announcing that the proposed collection of information listed above has been submitted to the Office of Management and Budget (OMB) for review and clearance as required under the Paperwork Reduction Act of 1995. This 30-day notice collects comments on the information collection requirements related to the proposed Extension with minor changes on the information collection requirements related to Prevention and Public Health Funds Evidence-Based Falls Prevention Program.

DATES: Submit written comments on the collection of information by April 12, 2021.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Shannon Skowronski, Administration for Community Living, Washington, DC 20201, Shannon Skowronski, 202-795-7438, shannon.skowronski@acl.hhs.gov.

SUPPLEMENTARY INFORMATION: In compliance with 44 U.S.C. 3507, ACL has submitted the following proposed collection of information to OMB for review, comment and approval. The Evidence-Based Falls Prevention Grant Program is financed through the Prevention and Public Health Fund (PPHF), most recently with FY 2020 PPHF funds. The statutory authority for these cooperative is contained in Continuing Appropriations Act, 2020 and Health Extenders Act of 2019, Public Law 116-59; the Older Americans Act (OAA) (Section 411); and the Patient Protection and Affordable Care Act, 42 U.S.C. 300u-11 (Prevention and Public Health Fund).

The Evidence-Based Falls Prevention Program supports a national resource center and awards competitive grants to implement and promote the sustainability of evidence-based community programs that have been proven to reduce the falls incidence and risk among for older adults.

OMB approval of the existing set of Falls Prevention data collection tools (OMB Control Number, 0985-0039) expires on 03/31/2021. This data collection continues to be necessary for monitoring program operations and outcomes.

ACL/AoA proposes to use the following tools: (1) Semi-annual performance reports to monitor grantee progress; (2) a Host/Implementation Organization Information Form to record location of agencies that sponsor programs that will allow mapping of the delivery infrastructure; and (3) a set of tools used to collect information at each program completed by the program leaders (Program Information Cover Sheet and Attendance Log), a Participant Information Form to be completed by all participants, and a Post Program Survey to be completed by a random sample of participants. ACL/AoA intends to continue using an online data entry system for the program and participant survey data. Minor changes are being proposed to the currently approved tools. All changes proposed are based on feedback from a focus group that included a sub-set of current grantees and consultation with subject-matter experts.

Comments in Response to the 60-Day Federal Register Notice

A notice published in the Federal Register on September 28, 2020, Volume 85, No. 188, page 60808. There were five public comment emails received during the 60-day FRN comment period.

A summary of the comments and the ACL response is provided below.

Participant Information Form and Post Survey
Comment | Response
A suggestion was made to add a purpose statement to the forms to better inform participants of why this specific data collection is pertinent | ACL did not adopt this suggestion. The purpose of this data collection is multi-fold—with different benefits and potential uses of the data by federal, state, and local stakeholders.
Suggestions were made to make adjustments to the wording and/or response options for some of the demographic questions, such as those related to race, ethnicity, and gender | ACL did not adopt these suggestions. The wording and response options for the demographic questions included are consistent with OMB-approved surveys for other ACL programs. Having this consistency allows ACL and researchers utilizing this data to compare outcomes from the population reached with ACL's Falls Prevention Programs to a more broadly representative population of older adults.
For some of the non-demographic questions, suggestions were made to use different response options, adjust the wording of the questions, or use different measurement scales | ACL did not adopt these suggestions. ACL consulted with experts in the field to identify validated scales to capture the information needed to understand the impact of the programs on critical domains. Adjusting the wording of the questions would impact their validity.
Several suggestions were made with respect to the formatting of the forms.
1. Provide a small box on the bottom right hand corner of each sheet to identify participant ID. Should paperwork be separated, it provides another mechanism to keep forms complete. Also suggest adding more white space to the document, increasing the space between questions and answers, and increasing the font size | 1. ACL did not adopt these suggestions in order to keep the Participant Information Form and Post-Survey to one sheet (front and back). ACL will be providing the surveys to grantees in a Word format so they can make any formatting edits they deem necessary, i.e., larger font size, more white space, etc.
2. There needs to be further consistency with bullet point sizes and format of questions. They seem to be inconsistent | 2. ACL reviewed the bullet point sizes and format of questions to ensure consistency.
3. To better align the pre- and post- survey, it might make sense to move question number 9 on Participant Information Form closer to question 12 | 3. ACL revisited the ordering of the forms to ensure the questions align, to the greatest extent possible.
4. In question 7, the word “agree,” is misspelled under “Strongly disagree” | 4. ACL made the spelling correction to question 7.
Some commenters suggested including definitions of certain terms on the form, for example, defining what is meant by “vigorous” or “moderate” exercise | ACL did not adopt suggestions to provide detailed definition of terms within the questions. Including definitions would increase the length of the forms, resulting in greater participant burden. Local program coordinators are available to assist participants completing the forms, in the event any questions arise with any of the specific questions.
A suggestion was made to remove the proposed Question 19 from the Participant Information Form, with the comment that it is not relevant pre-program | ACL adopted this suggestion.
A suggestion was made to adjust the wording of the existing Question 11 (and the response options) to align with the ACL Chronic Disease Self-Management Education data collection forms | ACL did not adopt this suggestion. The ACL Falls Prevention and Chronic Disease Self-Management Education grant programs are two distinct grant programs, with two distinct lists of chronic conditions in their OMB-approved data collections.
A suggestion was made to expand the following question on the Participant Information Form: “Are you limited in any way in any activities because of physical, mental, or emotional problems?” | ACL did not adopt this suggestion. This question was only included in the Participant Information Form, not the Post Survey. The Participant Information Form and Post Survey already include questions to assess limitations due to physical, mental, and/or emotional problems, so this question was deemed duplicative and removed from the Participant Information Form entirely to reduce participant burden.
Suggested replacement questions:
• “Because of a physical, mental, or emotional condition, do you: ○ Have serious difficulty concentrating, remembering, or making decisions? Yes, No ○ Have difficulty doing errands alone such as visiting a doctor's office or shopping? Yes, No” • “Do you have serious difficulty walking or climbing stairs? Yes, No” • “Do you have difficulty dressing or bathing? Yes, No”
A commenter suggested adding the following questions to the forms: | ACL did not adopt these suggestions to avoid increasing participant burden and the length of the forms beyond one sheet (front and back).
• “Are you deaf or do you have serious difficulty hearing? Yes, No”
• “Are you blind or do you have serious difficulty seeing, even when wearing glasses? Yes, No”
• “During the past year, did you provide regular care or assistance to a friend or family member who has a long-term health condition or disability?”

Fall Prevention Coversheet
Comment | Response
Some commenters suggested not requiring a separate Program Information Coversheet—instead folding some of the questions in the coversheet into the Participant Information Form, Post-Survey, and/or the semi-annual grantee report | ACL did not adopt this suggestion. The grantee focus group reported that this form was useful for organizing their data collection and program delivery. Adding questions to the Participant Information and Post-Survey would also increase their length beyond 1 sheet (front and back).
A commenter provided the following formatting-related comments: | ACL adopted these edits.
• The dotted lines dictating the start year appear to be missing—suggest adding these; and
• suggest adjusting the bullet sizes to be consistent, specifically in question number 7, the bullet under indicating “other,” is different from the previous bullet
A commenter suggested adding a space to note host/implementation organization | ACL did not adopt this suggestion.
A commenter suggested adding check boxes to note if the program was delivered in a remote format | ACL did not adopt this suggestion due to variability in how remote programs are defined and delivery format.

Host/Implementation Organization Form
Comment | Response
A commenter suggested adding to Question 2 the statement, “Please check only if you are a new __ Host Organization __ Implementation Site.” | ACL did not adopt this suggestion. The purpose of this form is to document new host organizations and implementation sites, so these additional instructions were deemed unnecessary.

Fall Prevention Attendance Log
Comment | Response
One commenter suggested using an “X” (rather than fill in the box) to denote sessions attended | ACL adopted this suggestion.
One commenter noted that “the last blank for `end date' is not bolded” | ACL made this correction.
One commenter suggested changing the form to landscape to account for length of Tai Chi and Enhance Fitness programs | ACL adopted this suggestion.

Comment Relevant to All Forms
Comment | Response
One commenter suggested that ACL provide fillable PDF forms | ACL will be providing the documents in Word format. If resources allow, we will also provide fillable PDFs for grantee use.

Estimated Program Burden

ACL estimates the burden associated with this collection of information as follows:

Respondent/data collection activity | Number of respondents | Responses per respondent | Hours per response | Annual burden hours
Project staff, Semi-annual Performance Report | 20 | Twice a year | 8 | 320
Local agency leaders Program Information Cover Sheet/Participant Information Form/Attendance Log/Post Local data entry staff; Program Survey | 436 leaders | Twice a year (one set per program) | .50 | 436
| 40 data entry staff | Once per program × 872 programs | .50 | 436
Local organization staff and local database entry staff; Host Organization Data Form | 436 staff | 1 | .05 | 22
Program participants; Participant Information Form | 10,455 | 1 | .10 | 1046
Program Participants; Post Program Survey | 6,273 | 1 | .10 | 628
Total Burden Hours |  |  |  | 2888

Dated: March 5, 2021.
Alison Barkoff,
Acting Administrator and Assistant Secretary for Aging.

[FR Doc. 2021-05042 Filed 3-10-21; 8:45 am]

BILLING CODE 4154-01-P